DEPARTMENT OF TRANSPORTATION

Federal Railroad Administration

[Waiver Petition Docket Number FRA-2004-18746]

Union Pacific Railroad Company; Notice of Extension of Comment Period

On August 10, 2004, FRA published a notice in the Federal Register announcing the Union Pacific Railroad Company's (UP) request to be granted a waiver of compliance from certain provisions of the Brake System Safety Standards for Freight and Other Non-passenger Trains and Equipment; End of Train Devices, 49 CFR part 232, Freight Car Safety Standards, 49 CFR part 215, and Locomotive Safety Standards, 49 CFR part 299. See 69 FR 48558. Specifically, UP requests relief from the requirements of § 232.205 Class I Brake Test-Initial Terminal Inspection, § 232.409 Inspection and Testing of End-of-Train, § 215.13 Pre-departure Inspection, § 229.21 Daily Inspection.

UP requests that the above provisions of the Federal regulations be waived to permit run-through trains, that originate in Mexico and are interchanged with the UP at the Laredo, Texas Gateway, to operate into the interior of the United States without having to perform inspections at the U.S./Mexican border, provided that the trains receive proper inspections in Mexico by Transportacion Ferroviaria Mexicana (TFM), according to the standards prescribed in 49 CFR parts 232, 215, and 229. UP would maintain all records required by applicable regulations for ready access on the U.S. side of the border, for FRA inspections. In addition, TFM has provided written consent for FRA to conduct inspections of their facilities and inspection practices.

In response to comments received on the original notice, FRA issued a notice on August 31, 2004, granting the requests for a public hearing and extending the comment period to October 8, 2004. See 69 FR 54177 (September 7, 2004). A public hearing in this matter was conducted on October 1, 2004. Subsequent to the close of the comment period on October 8, 2004, a number of significant documents were added to the public docket. These include: new uncorrupted translation files from TFM; a letter from Congressman James L. Oberstar and 22 other members of Congress opposing the petition; and the transcript from the October 1, 2004, public hearing. FRA currently is in the process of reviewing and evaluating this new information as well as all the other previously submitted material and information. In order to provide interested parties an opportunity to review and potentially comment on this new information, FRA believes it is necessary to reopen the public docket in this matter and extend the comment period for a short period of time.

Accordingly, FRA is extending the comment period in this matter to November 10, 2004. All communications concerning these proceedings should identify the appropriate docket number (e.g., Waiver Petition Docket Number FRA-2004-18746) and must be submitted to the Docket Clerk, DOT Docket Management Facility, Room PL-401 (Plaza Level), 400 7th Street, SW., Washington, DC 20590. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (volume 65, number 70; pages 19477-78). The Statement may also be found at http://dms.dot.gov.

Issued in Washington, DC on October 22, 2004.
Grady C. Cothen, Jr.,
Acting Associate Administrator for Safety.

[FR Doc. 04-24058 Filed 10-25-04; 8:45 am]

BILLING CODE 4910-06-P